DEPARTMENT OF THE INTERIOR

Bureau of Land Management

[LLMTM01000.L12320000.FV0000.LVRDMT110000XXX MO#4500080126]

Proposed Supplementary Rules for the Zortman Ranger Station and Buffington Day Use Area on Public Land in Phillips County Near Zortman, MT

AGENCY: Bureau of Land Management, Interior.

ACTION: Proposed Supplementary Rules.

SUMMARY: The Bureau of Land Management (BLM), Malta Field Office is proposing additional supplementary rules for the Zortman Ranger Station, a historic U.S. Forest Service Ranger Station now administered by the BLM in Zortman, Montana, and Buffington Day Use Area at the Camp Creek Recreation Area. The supplementary rules are necessary to maintain the public health and safety and to protect the environment of the recreation areas. They will help reduce erosion, reduce fire hazards, provide for public safety, prevent damage to natural resources, reduce user conflicts, and increase visitor satisfaction.

DATES: To ensure that comments will be considered, the BLM must receive written comments on the proposed supplementary rules by November 1, 2016. In developing final supplementary rules, the BLM may not consider comments postmarked or received in person or by electronic mail after this date.

ADDRESSES: Comments may be mailed or hand delivered to the BLM Malta Field Office, Attn: Field Manager, 501 South 2nd Street East, Malta, MT 59538. You may also submit comments via email to BLM_MT_Malta_FO@blm.gov or fax to 406-654-5150. Copies of the fee proposal are available at the BLM Malta Field Office, 501 South 2nd Street East, Malta, MT 59538 or on line at: http://www.blm.gov/mt/st/en/fo/malta_field_office.html.

FOR FURTHER INFORMATION CONTACT: Vinita Shea, Malta Field Manager, at the above address, or by calling 406-654-5131. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION:

Public Comment Procedures

You may mail, email, or hand-deliver comments to the Malta Field Office, at the addresses listed above (See ADDRESSES). Written comments on the proposed supplementary rules should be specific and confined to issues pertinent to the proposed rules, and should explain the reason for any recommended change. Where possible, comments should reference the specific section or paragraph of the proposal that the commenter is addressing. The BLM is not obligated to consider, or include in the Administrative Record for the final supplementary rules, comments delivered to an address other than those listed above (See ADDRESSES), or comments that the BLM receives after the close of the comment period (See DATES), unless they are postmarked or electronically dated before the deadline.

Comments, including names, street addresses, and other contact information for respondents, will be available for public review at the Malta Field Office address listed in the section ADDRESSES during regular business hours (8 a.m. to 4:30 p.m., Monday through Friday, except Federal holidays). Before including your address, phone number, email address, or other personal identifying information in your comment, you should be aware that your comment—including your personal identifying information—may be made publicly available at any time. While you can ask us in your comment to withhold your personal identifying information from public review, we cannot guarantee that we will be able to do so.

Background

The Zortman Ranger Station, built in 1905, was part of the Lewis and Clark National Forest until 1965, when management of public lands in the area was transferred to the BLM. The site includes the four-room main building, a storage shed, and amphitheater which was built for the Lewis and Clark Bicentennial celebration. The main building is eligible for listing on the National Register of Historic Places. In 2013, the BLM partnered with the Forest Service's historic preservation team to repair the outside of the main building and landscape the yard to divert runoff which was undermining the foundation. The interior of the building has been inventoried and abated for asbestos and lead paint. The site also features an amphitheater which is used for interpretive presentations.

Buffington Day Use Area is located within the Camp Creek Recreation Area just northeast of Zortman, Montana. Buffington Day Use Area is utilized by individuals and groups as a parking site for day hikes, family and group gatherings such as picnics, reunions, church group outings, and birthday parties. In September 1994, the BLM completed the Record of Decision and Approved Phillips Resource Area Resource Management Plan, which provide for the maintenance and enhancement of the recreational quality of BLM land and resources to ensure enjoyable recreation experiences.

The proposed supplementary rules are authorized by 43 CFR 8365.1-6, which states, “The State Director may establish such supplementary rules as he/she deems necessary. These rules may provide for the protection of persons, property, and public lands and resources. No person shall violate such supplementary rules.”

Discussion of Proposed Supplementary Rules

The supplementary rules are necessary to maintain the public health and safety, and to protect the environment and facilities of the recreation areas. The rules will also help reduce erosion and fire hazards, prevent damage to natural resources, reduce user conflicts, and increase visitor satisfaction.

The proposed rules would limit the number of days that a person or group could rent the Zortman Ranger Station allowing more people to access the facility and thereby increase visitor satisfaction and reduce user conflicts. Game carcasses would not be allowed to be stored and no fish or game would be allowed to be cleaned inside the Zortman Ranger Station. These rules would protect facilities, assist in ensuring visitor satisfaction, and protect public health.

Pets would be required to be leashed if left unattended outside or kenneled if left unattended inside the Zortman Ranger Station. These rules would protect the Ranger Station. Pets would be required to be leashed and would not be allowed to be left unattended at the Buffington Day Use Area. This rule would protect public safety. No cutting of standing trees or any vegetation at the Zortman Ranger Station or the Buffington Day Use Area would be allowed. These rules would prevent damage to natural resources and reduce erosion. Campfires would only be allowed in BLM-provided fire rings to prevent fire hazards.

Visitors would be prohibited from leaving any personal property or refuse after vacating the Zortman Ranger Station or the Buffington Day Use Area, even if that property is intended for other campers or occupants, in order to increase visitor satisfaction and safety. Quiet hours at the Zortman Ranger Station would be 10:00 p.m.-7:00 a.m. and site usage at the Buffington Day Use Area would be 6:00 a.m.-11:00 p.m. These rules would enhance visitor satisfaction.

The proposed supplementary rules would apply to the Zortman Ranger Station, a historic U.S. Forest Service Ranger Station now administered by the BLM in Zortman, Montana, and Buffington Day Use Area at the Camp Creek Recreation Area. Both areas comprise approximately 3 acres of public lands within Phillips County, Montana.

Procedural Matters

Executive Order 12866, Regulatory Planning and Review

These supplementary rules are not significant regulatory actions and are not subject to review by the Office of Management and Budget under Executive Order 12866. The supplementary rules will result in an annual cost of less than $100 million or more on the economy. They will not adversely affect in a material way the economy, productivity, competition, jobs, environment, public health or safety, or State, local, or tribal governments or communities. These supplementary rules will not create a serious inconsistency or otherwise interfere with an action taken or planned by another agency. The rules do not alter the budgetary effects of entitlements, grants, user fees, or loan programs or the rights or obligations of their recipients, nor do they raise novel legal or policy issues. These rules would merely impose rules of conduct within the recreation sites.

Clarity of the Supplementary Rules

Executive Order 12866 requires each agency to write regulations that are simple and easy to understand.

The BLM invites your comments on how to make these proposed supplementary rules easier to understand, including answers to questions such as the following:

(1) Are the requirements in the proposed supplementary rules clearly stated?

(2) Do the proposed supplementary rules contain technical language or jargon interfering with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLEMENTARY INFORMATION section of this preamble helpful to your understanding of the proposed supplementary rules? How could this description be more helpful in making the proposed supplementary rules easier to understand?

Please send any comments you have on the clarity of the proposed supplementary rules to the address specified in the ADDRESSES section.

National Environmental Policy Act (NEPA)

Supplementary rules are made under the Visitor Services regulations of the Bureau of Land Management found at 43 CFR 8365.1-6. The BLM has determined that these proposed supplementary rules are administrative in nature, and are therefore categorically excluded from environmental review under Section 102(2)(C) of NEPA, 43 CFR 46.205, and 43 CFR 46.210(c) and (i). The BLM's Malta Field Office has prepared a Categorical Exclusion (CX) document to determine that these proposed supplementary rules do not meet any of the 12 criteria for exceptions to categorical exclusions listed at 43 CFR 46.215. Pursuant to the Council on Environmental Quality regulations (40 CFR 1508.4) and the environmental regulations, policies, and procedures of the Department of the Interior, the term “categorical exclusions” means a category of actions which do not individually or cumulatively have a significant effect on the human environment and that have been found to have no such effect in procedures adopted by a Federal agency and for which neither an environmental assessment nor an environmental impact statement is required. The supplementary rules merely contain rules of conduct for certain recreational lands in Montana. These rules are designed to protect the environment and the public health and safety. The BLM has placed the CX and the Decision Record (DR) on file in the BLM Administrative Record at the address specified in the ADDRESSES section.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. These supplementary rules pertain to recreational use of specific public lands, and do not affect commercial or governmental entities of any size. Therefore, the BLM has determined under the RFA that these supplementary rules will not have a significant economic impact on a substantial number of small entities, and do not necessitate preparation of a regulatory flexibility analysis.

Small Business Regulatory Enforcement Fairness Act

These fees and supplementary rules do not constitute a “major rule” as defined at 5 U.S.C. 804(2). They would not result in an annual effect on the economy of $100 million or more, in a major increase in costs or prices, or in significant adverse effects on competition, employment, investment, productivity, innovation, or on the ability of United States-based enterprises to compete with foreign-based enterprises in domestic and export markets. They will merely impose reasonable restrictions on certain actions within the Malta Field Office fee campgrounds.

Unfunded Mandates Reform Act

The Unfunded Mandates Reform Act (UMRA), 2 U.S.C. 1501 et seq., requires an assessment of unfunded mandates on State, local or tribal governments. These supplementary rules do not impose any unfunded mandate on State, local, or tribal governments, in the aggregate, or the private sector, of more than $100 million per year. The rules also will not have a significant or unique effect on small governments. They restrict certain actions within the subject fee sites. Therefore, the BLM is not required to prepare a statement containing the information required by the UMRA.

Executive Order 12630, Governmental Actions and Interference With Constitutionally Protected Property Rights (Takings)

These supplementary rules are not a government action capable of interfering with constitutionally protected property rights. The rules will have no effect on private lands or property. Therefore, the BLM has determined that these supplementary rules will not cause a taking of private property or require preparation of a takings assessment under this Executive Order.

Executive Order 13132, Federalism

These supplementary rules will not have a substantial direct effect on the states, on the relationship between the national government and the states, or on the distribution of power and responsibilities among the various levels of government. These supplementary rules will have little or no effect on State or local government. Therefore, in accordance with Executive Order 13132, the BLM has determined that these supplementary rules do not have sufficient Federalism implications to warrant preparation of a Federalism Assessment.

Executive Order 12988, Civil Justice Reform

The BLM has determined that the supplementary rules will not unduly burden the judicial system and that they meet the requirements of sections 3(a) and 3(b)(2) of the Order.

Executive Order 13175, Consultation and Coordination With Indian Tribal Governments

The proposed supplementary rules would merely establish rules of conduct for public use of a limited area of public land and would not affect land held for the benefit of Indians or Alaska Natives or impede their rights. The BLM has found that the supplementary rules do not include policies that have tribal implications.

Executive Order 13352, Facilitation of Cooperative Conservation

In accordance with Executive Order 13352, the BLM has determined that the proposed supplementary rules would not impede facilitating cooperative conservation; would take appropriate account of and consider the interests of persons with ownership or other legally recognized interests in land or other natural resources; would properly accommodate local participation in the Federal decision-making process; and would provide that the programs, projects, and activities are consistent with protecting public health and safety.

Information Quality Act

In developing these proposed supplementary rules, the BLM did not conduct or use a study, experiment, or survey requiring peer review under the Information Quality Act (Section 515 of Pub. L. 106-554).

Paperwork Reduction Act

These supplementary rules do not contain information collection requirements that the Office of Management and Budget must approve under the Paperwork Reduction Act of 1995, 44 U.S.C. 3501 et seq.

Executive Order 13211, Actions Concerning Regulations That Significantly Affect Energy Supply, Distribution, or Use

The supplementary rules do not comprise a significant energy action. They will not have an adverse effect on energy supplies, production, or consumption. They address recreational use of specific public lands, and have no connection with energy policy.

Proposed Supplementary Rules: For the reasons stated in this preamble, and under the authority of 43 CFR 8365.1-6, the State Director proposes to establish supplementary rules for public lands managed by the BLM, Malta Field Office. The proposed supplementary rules for the Zortman Ranger Station are:

1. Rental of the Zortman Ranger Station is limited to no more than 7 consecutive days and no more than 14 days per year per person or group.

2. Campfires are allowed only in BLM-provided fire rings.

3. Fish and game are not to be cleaned inside the building.

4. No game carcasses are allowed in the building.

5. Pets must be leashed and cannot be left unattended outside the building.

6. Pets must be kenneled if left unattended inside the building.

7. Quiet hours are 10:00 p.m. to 7:00 a.m.

8. No cutting of standing trees or any vegetation is allowed at the site.

9. You must not leave any personal property or refuse after vacating the premises. This includes any property left for the purposes of use by another camper or occupant.

The proposed supplementary rules for Buffington Day Use Area are:

1. Site occupancy is limited to day use from 6:00 a.m. to 11:00 p.m.

2. Campfires are allowed only in BLM-provided fire rings.

3. Pets must be leashed and must not be left unattended.

4. No cutting of standing trees or any vegetation is allowed at the site.

5. You must not leave any personal property or refuse after vacating the premises. This includes any property left for the purposes of use by another camper or occupant.

Enforcement

Any person who violates any of these supplementary rules may be tried before a United States Magistrate and fined in accordance with 18 U.S.C. 3571, imprisoned no more than 12 months under 43 U.S.C. 1733(a) and 43 CFR 8560.0-7, or both. In accordance with 43 CFR 8365.1-7, State or local officials may also impose penalties for violations of Montana law.

Exemptions

The following persons are exempt from these supplementary rules: Any Federal, State, local, and/or military employees acting within the scope of their duties; members of any organized rescue or fire-fighting force performing an official duty; and persons, agencies, municipalities or companies holding an existing special-use permit and operating within the scope of their permit.

Jamie Connell,
State Director, Bureau of Land Management, Montana/Dakotas.

[FR Doc. 2016-21178 Filed 9-1-16; 8:45 am]

BILLING CODE 4310-DN-P